DEPARTMENT OF ENERGY

10 CFR Parts 433 and 435

[EERE-2010-BT-STD-0031]

RIN 1904-AB96

Clean Energy for New Federal Buildings and Major Renovations of Federal Buildings; Stay; Correction

AGENCY: Federal Energy Management Program, Department of Energy.

ACTION: Final rule; stay; correction.

SUMMARY: On May 5, 2025, the U.S. Department of Energy (DOE) stayed the compliance date for recently adopted energy performance standards for certain new Federal buildings and Federal buildings undergoing major renovations. This document corrects the uniform resource locator (URL) provided to the implementation guidance that DOE is reviewing. DOE updated the implementation guidance available on its website to indicate that it is currently being reviewed, this required posting the updated document using a new URL. This update does not affect the substance of the rulemaking or the stay of the compliance date.

DATES: Effective May 27, 2025.

FOR FURTHER INFORMATION CONTACT: Mr. Rick Mears, U.S. Department of Energy, Office of the Under Secretary for Infrastructure, Federal Energy Management Program, FEMP-1, 1000 Independence Avenue SW, Washington, DC, 20585-0121. Phone: 240-278-5857. Email: cer-information@hq.doe.gov.

SUPPLEMENTARY INFORMATION: On May 5, 2025, DOE stayed the compliance date for recently adopted energy performance standards for certain new Federal buildings and Federal buildings undergoing major renovations. 90 FR 18911 (Compliance Date Stay). DOE noted that subsequent to adopting the final rule, it issued a guidance document that provided additional information related to the implementation of these energy performance standards. DOE also provided a link to the implementation guidance. Id. n2.

DOE has updated the implementation guidance document to include a cover page that states that DOE is currently reviewing the document and noting that the compliance date for the energy performance standards has been stayed. Adding the cover page required DOE to use a new URL to post the implementation guidance. Accordingly, the URL provided in the Compliance Date Stay is no longer accurate.

DOE is issuing this correction to update the URL provided in n2. Because this document would simply update an URL, without changing the energy performance standards adopted, the changes addressed in this document are technical in nature.

Pursuant to the Administrative Procedure Act, 5 U.S.C. 553(b), DOE finds that there is good cause to not issue a separate notice to solicit public comment on the technical corrections contained in this document. Issuing a separate notice to solicit public comment would be unnecessary. As explained previously, the correction in this document does not affect the substance of or any of the conclusions reached in support of the final rule. Therefore, providing prior notice and an opportunity for public comment on updating the URL to the implementation guidance document does not change the substance of the proposed energy performance standards serve no useful purpose.

Correction

In the Federal Register of May 5, 2025 (90 FR 18911) in FR Doc. 2025-07743, the following correction is made:

On page 18911, in the second column, in footnote 2, remove the “https://www.energy.gov/sites/default/files/2025-03/clean-energy-rule_implementation-guidance_jan2025.pdf” and add in its place “https://www.energy.gov/sites/default/files/2025-05/clean-energy-rule_implementation-guidance_may2025.pdf” to update the URL provided for the implementation guidance document.

Signing Authority

This document of the Department of Energy was signed on May 20, 2025, by Mary Sotos, the Director of the Federal Energy Management Program, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 21, 2025.
Jennifer Hartzell,
Alternate Federal Register Liaison Officer, U.S. Department of Energy.

[FR Doc. 2025-09438 Filed 5-23-25; 8:45 am]

BILLING CODE 6450-01-P